DEPARTMENT OF COMMERCE

International Trade Administration

[C-475-819]

Certain Pasta From Italy: Notice of Initiation of Countervailing Duty New Shipper Review

AGENCY: Import Administration, International Trade Administration, Department of Commerce.

ACTION: Notice of initiation of countervailing duty new shipper review.

SUMMARY: On December 17, 2002, the Department of Commerce received a request to conduct a new shipper review of the countervailing duty order on certain pasta from Italy. In accordance with section 751(a)(2)(B) of the Tariff Act of 1930, as amended, and 19 CFR 351.214(d), we are initiating this new shipper review.

EFFECTIVE DATE: March 5, 2003.

FOR FURTHER INFORMATION CONTACT: Stephen Cho or Craig Matney, Import Administration, International Trade Administration, Department of Commerce, 14th Street and Constitution Avenue, NW., Washington, DC 20230; telephone (202) 482-3798 or (202) 482-1778, respectively.

SUPPLEMENTARY INFORMATION:

Background

On December 17, 2002, the Department received a request from Pastificio Carmine Russo S.p.A. (“Pastificio Russo”), to conduct a new shipper review of the countervailing duty order on certain pasta from Italy, issued July 24, 1996 (61 FR 38544). This order has a January semi-annual anniversary month. Pastaficio Russo's request was made pursuant to section 751(a)(2)(B) of the Act and 19 CFR 351.214(d), for new shipper reviews of the countervailing duty order on certain pasta from Italy. On February 24, 2003, the Department received additional submission from Pastificio Russo in which Pastificio Russo provided information to the Department describing how Pastificio Russo was formed as a new corporate entity through a corporate buy-out of Carmine Russo, S.p.A. We will further review this change-in-ownership as part of the new shipper review of the countervailing duty order.

Initiation of Review

In accordance with 19 CFR 351.214(b)(2) of the Department's regulations, Pastificio Russo provided certification that: (1) It did not export subject merchandise to the United States during the period of investigation (“POI”), and (2) that, since the investigation was initiated, it never has been affiliated with any exporter or producer who exported the subject merchandise to the United States during the POI, including those not individually examined during the investigation. Also, in accordance with 19 CFR 351.214(b)(2), Pastificio Russo submitted documentation establishing: (1) The date subject merchandise was first entered, or withdrawn from warehouse, for consumption, or if the exporter or producer could not establish the date of first entry, the date on which they first shipped the subject merchandise for export to the United States; (2) the volume of the first and subsequent shipments; and (3) the date of the first sale to an unaffiliated customer in the United States. In addition, the company provided a certification stating that it has informed the Government of Italy that it will be required to provide a full response to the Department's countervailing duty questionnaire.

Therefore, in accordance with section 751(a)(2)(B) of the Act and 19 CFR 351.214, we are initiating a new shipper review of the countervailing duty order on certain pasta from Italy. Pursuant to 19 CFR 351.214(h)(i), we intend to issue the preliminary results of this review not later than 180 days from the date of publication of this notice. All provisions of 19 CFR 351.214 will apply to Pastificio Russo throughout the duration of this new shipper review.

In a countervailing duty proceeding, the standard period of review (“POR”) in a new shipper review is the same as the period specified in 19 CFR 351.213(e)(2) for an administrative review. Therefore, the POR for this new shipper review is January 1, 2002 through December 31, 2002 and we will review the subsidies received by the company during that period.

Concurrent with publication of this notice, and in accordance with 19 CFR 351.214(e), we will instruct the Customs Service to suspend liquidation of any unliquidated entries of the subject merchandise from the relevant exporter or producer, and to allow, at the option of the importer, the posting, until the completion of the review, of a bond or security in lieu of a cash deposit for each entry of the subject merchandise exported by the company listed above.

Interested parties must submit applications for disclosure under administrative protective orders in accordance with 19 CFR 351.305 and 351.306.

This initiation notice is in accordance with section 751(a) of the Act (19 U.S.C. 1675(a)) and 19 CFR 351.214.

Dated: February 21, 2003.
Susan H. Kuhbach,
Acting Deputy Assistant Secretary for Import Administration.

[FR Doc. 03-5186 Filed 3-4-03; 8:45 am]

BILLING CODE 3510-DS-P